DEPARTMENT OF COMMERCE

International Trade Administration

[C-533-902]

Organic Soybean Meal From India: Final Results of Countervailing Duty Administrative Review; 2021-2022

AGENCY: Enforcement and Compliance, International Trade Administration, Department of Commerce.

SUMMARY: The U.S. Department of Commerce (Commerce) determines that countervailable subsidies were provided to certain producers and exporters of organic soybean meal from India. The period of review (POR) is September 3, 2021, through December 31, 2022.

DATES: Applicable December 10, 2024.

FOR FURTHER INFORMATION CONTACT: Peter Shaw, AD/CVD Operations, Office VII, Enforcement and Compliance, International Trade Administration, U.S. Department of Commerce, 1401 Constitution Avenue NW, Washington, DC 20230; telephone: (202) 482-0697.

SUPPLEMENTARY INFORMATION:

Background

On May 30, 2024, Commerce published the Preliminary Results of this administrative review in the Federal Register and invited interested parties to comment.¹ On July 22, 2024, Commerce tolled certain deadlines in this administrative proceeding by seven days.² On September 30, 2024, we extended the time limit for these final results to December 3, 2024.³ For a complete description of the events that occurred since the publication of the Preliminary Results, see the Issues and Decision Memorandum.⁴

¹ See Organic Soybean Meal from India: Preliminary Results and Partial Rescission of Countervailing Duty Administrative Review; 2021-2022, 89 FR 46864 (May 30, 2024) (Preliminary Results), and accompanying Preliminary Decision Memorandum.

² See Memorandum, “Tolling of Deadlines for Antidumping and Countervailing Duty Proceedings,” dated July 22, 2024.

³ See Memorandum, “Extension of Deadline for Final Results,” September 30, 2024.

⁴ See Memorandum, “Issues and Decision Memorandum for the Final Results of the Countervailing Duty Administrative Review of Organic Soybean Meal from India; 2021-2022,” dated concurrently with, and hereby adopted by, this notice (Issues and Decision Memorandum).

Scope of the Order ⁵

⁵ See Organic Soybean Meal from India: Countervailing Duty Order, 87 FR 29735 (May 16, 2022) (Order).

The merchandise covered by this Order is organic soybean meal from India. For a complete description of the scope of the Order, see the Issues and Decision Memorandum.

Analysis of Comments Received

All issues raised by the interested parties in their case and rebuttal briefs are addressed in the Issues and Decision Memorandum. A list of topics discussed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties, we made certain changes to Shri Sumati Industries Private Limited's countervailable subsidy rate calculations from the Preliminary Results. For a full description of these changes, see the Issues and Decision Memorandum.

Methodology

Commerce is conducting this administrative review in accordance with section 751(a)(l)(A) of the Tariff Act of 1930, as amended (the Act). For each of the subsidy programs found to be countervailable, we determine that there is a subsidy, i.e., a financial contribution by an “authority” that gives rise to a benefit to the recipient, and that the subsidy is specific.⁶ For a full description of the methodology underlying our conclusions, including our reliance on facts available with adverse inferences, pursuant to sections 776(a) and (b) of the Act, see the Issues and Decision Memorandum.

⁶ See sections 771(5)(B) and (D) of the Act regarding financial contribution; section 771(5)(E) of the Act regarding benefit; and section 771(5A) of the Act regarding specificity.

Final Results of Review

As a result of this review, Commerce determines the following net countervailable subsidy rates exist for the period September 3, 2021, through December 31, 2022:

Company | Subsidy rate 2021 (percent ad valorem) | Subsidy rate 2022 (percent ad valorem)
Shri Sumati Industries Private Limited | 8.82 | 5.15
Shanti Worldwide | 261.80 | 261.80

Disclosure

Commerce intends to disclose its calculations and analysis performed in connection with these final results to interested parties within five days of its public announcement, or if there is no public announcement, within five days of the date of publication of this notice, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for each of the companies listed above for shipments of subject merchandise which entered, or were withdrawn from warehouse, for consumption on or after the date of publication of the final results of this administrative review. For all non-reviewed firms, we will instruct CBP to continue to collect cash deposits of estimated countervailing duties at the all-others rate or most recent company-specific rate applicable to the company, as appropriate. These cash deposit requirements, when imposed, shall remain in effect until further notice.

Administrative Protective Order (APO)

This notice also serves as the final reminder to parties subject to an APO of their responsibility concerning the destruction of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213 and 351.221(b)(5).

Dated: December 3, 2024.
Abdelali Elouaradia,
Deputy Assistant Secretary for Enforcement and Compliance.

Appendix

List of Topics Discussed in the Issues and Decision Memorandum

I. Summary

II. Background

III. Scope of the Order

IV. Subsidies Valuation

V. Use of Facts Otherwise Available and Adverse Inferences

VI. Analysis of Programs

VII. Discussion of the Issues

Comment 1: Whether To Apply Adverse Facts Available (AFA) to the Duty Drawback Scheme (DDB)

Comment 2: Whether To Apply AFA to the Interest Equalization Scheme (IES)

Comment 3: Whether To Treat Transport and Marketing Assistance for Specified Agricultural Products (TMA) as a Non-Recurring Grant Program

VIII. Recommendation

[FR Doc. 2024-28991 Filed 12-9-24; 8:45 am]

BILLING CODE 3510-DS-P